DEPARTMENT OF AGRICULTURE

Animal and Plant Health Inspection Service

9 CFR Parts 145 and 147

[Docket No. 00-075-2]

National Poultry Improvement Plan and Auxiliary Provisions

AGENCY: Animal and Plant Health Inspection Service, USDA.

ACTION: Final rule.

SUMMARY: We are amending the National Poultry Improvement Plan (the Plan) and its auxiliary provisions by providing new or modified sampling and testing procedures for Plan participants and participating flocks. These changes, which were voted on and approved by the voting delegates at the Plan's 2000 Millennial Plan Conference, will keep the provisions of the Plan current with developments in the poultry industry and provide for the use of new sampling and testing procedures.

EFFECTIVE DATE: March 27, 2002.

FOR FURTHER INFORMATION CONTACT: Mr. Andrew R. Rhorer, Senior Coordinator, Poultry Improvement Staff, National Poultry Improvement Plan, Veterinary Services, APHIS, USDA, 1498 Klondike Road, Suite 200, Conyers, GA 30094-5104; (770) 922-3496.

SUPPLEMENTARY INFORMATION:

Background

The National Poultry Improvement Plan (NPIP, also referred to below as “the Plan”) is a cooperative Federal-State-industry mechanism for controlling certain poultry diseases. The Plan consists of a variety of programs intended to prevent and control egg-transmitted, hatchery-disseminated poultry diseases. Participation in all plan programs is voluntary, but flocks, hatcheries, and dealers must qualify as “U.S. Pullorum-Typhoid Clean” before participating in any other Plan program. Also, the regulations in 9 CFR part 82, subpart C, which provide for certain testing, restrictions on movement, and other restrictions on certain chickens, eggs, and other articles due to the presence of Salmonella enteritidis, prohibit hatching eggs or newly hatched chicks from egg-type chicken breeding flocks from being moved interstate unless they are classified “U.S. S. Enteritidis Monitored” under the Plan or have met equivalent requirements for S. enteritidis control, in accordance with 9 CFR 145.23(d), under official supervision.

The Plan identifies States, flocks, hatcheries, and dealers that meet certain disease control standards specified in the Plan's various programs. As a result, customers can buy poultry that has tested clean of certain diseases or that has been produced under disease-prevention conditions.

The regulations in 9 CFR parts 145 and 147 (referred to below as the regulations) contain the provisions of the Plan. The Animal and Plant Health Inspection Service (APHIS or the Service) of the U.S. Department of Agriculture (USDA or the Department) amends these provisions from time to time to incorporate new scientific information and technologies within the Plan.

On July 20, 2001, we published in the Federal Register (66 FR 37919-37932, Docket No. 00-075-1) a proposal to amend the regulations by (1) providing new or modified sampling, testing, and cleaning/disinfection procedures for Plan participants and participating flocks, (2) updating some of the Plan's administrative provisions, and (3) making several nonsubstantive editorial changes to improve clarity and correct erroneous citations to several sections within the regulations.

We solicited comments concerning our proposal for 60 days ending September 18, 2001. We received one comment by that date. The comment was from a private veterinarian who requested that we clarify what we meant by the phrase “does not spread” in the proposed revision to § 145.23(d)(1)(vi)(B). (That paragraph begins with the words “If an injectable bacterin or live vaccine that does not spread is used * * *.”) The commenter was concerned that our use of that phrase meant that we intended to require the use of live vaccines that do not ever shed or that are not transmitted between birds, and stated that it was unlikely that any live vaccine could meet that standard, thus precluding the use of an otherwise valuable food safety vaccine.

As we explained in the proposed rule, the regulations in § 145.23(d)(1)(vi) regarding the use of a federally licensed Salmonella enteritidis bacterin had not differentiated between the use of vaccines or bacterins that may spread to other birds and those that do not, which is why we proposed to introduce the term “does not spread” into that paragraph. In both the proposed rule and this final rule, the text of § 145.23(d)(1)(vi)(B) does not require the use of live vaccines that do not spread, nor does it prohibit the use of live vaccines that spread. Rather, that paragraph simply offers a “testing after vaccination” option that may be utilized if an injectable bacterin or live vaccine that does not spread is used to vaccinate a flock.

We are making two minor technical changes in this final rule that were not discussed in the proposed rule. Specifically, in the proposed rule, we proposed to redesignate paragraph (b) of § 147.12 as paragraph (c), but inadvertently failed to update two internal references within that paragraph. Therefore, in this final rule we are amending redesignated § 147.12(c)(1) so the introductory text of that paragraph refers to paragraphs (c)(1)(i) and (c)(1)(ii) rather than (b)(1)(i) and (b)(1)(ii); similarly, we are amending redesignated § 147.12(c)(2) so the introductory text of that paragraph refers to paragraph (c)(2)(i) rather than (b)(2)(i).

Therefore, for the reasons given in the proposed rule and in this document, we are adopting the proposed rule as a final rule, with the changes discussed in this document.

Executive Order 12866 and Regulatory Flexibility Act

This rule has been reviewed under Executive Order 12866. The rule has been determined to be not significant for the purposes of Executive Order 12866 and, therefore, has not been reviewed by the Office of Management and Budget.

The changes contained in this document are based on the recommendations of representatives of member States, hatcheries, dealers, flockowners, and breeders who took part in the Plan's 2000 National Plan Conference. This rule amends the Plan and its auxiliary provisions by providing new or modified sampling and testing procedures for Plan participants and participating flocks. The changes contained in this rule, which were voted on and approved by the voting delegates at the Plan's 2000 National Plan Conference, will keep the provisions of the plan current with changes in the poultry industry and provide for the use of new sampling and testing procedures.

The plan serves as a “seal of approval” for eggs and poultry producers in the sense that tests and procedures recommended by the Plan are considered optimal for the industry. In all cases, the changes in this document have been generated by the industry itself with the goal of reducing disease risk and increasing product marketability. Because participation in the Plan is voluntary, individuals are likely to remain in the program as long as the costs of implementing the program are lower than the added benefits they receive from the program.

The changes contained in this document generally either update testing procedures and sanitation guidelines or amend the Plan's administrative operations, with the aim of better safeguarding the health of the Nation's poultry industry. The Regulatory Flexibility Act requires that agencies consider the economic effects of their rules on small entities. We do not expect that the changes in this document will result in significant economic effects on small entities.

The Small Business Administration defines size standards for industries using the North American Industry Classification System (NAICS). Under this system, a firm classified within “Chicken Egg Production” (NAICS code 112310) is considered small if its annual receipts are $9 million or less. For firms classified within “Broilers and Other Meat Type Chicken Production” (NAICS code 112320), the small-entity criterion is annual receipts of $750,000 or less.

The egg and poultry industries are highly integrated vertically, with most production owned or under contract to large-scale processing and marketing firms.¹ For example, broilers for Tyson Foods, the world's largest producer, came in 1999 from 6,060 farms (98 percent under contract), and its eggs came from breeder flocks on 1,388 farms.²

¹ The broiler industry, in particular, is heavily concentrated. Tyson Foods had weekly sales of ready-to-cook chicken that averaged 154.3 million pounds in 1999. The 10 largest broiler companies accounted for 429.6 million pounds per week in 1999, approximately half of the Nation's production (WATT Poultry USA, January 2000).

² WATT Poultry USA, January 2000.

In 1997, an average of 303,604,000 egg-producing layers produced 77,532 million eggs.³ The number of egg-producing farms and their size distribution is not known, but it is reasonable to assume that some of them may be small entities, operating either independently or under contract.

³ “Chickens and Eggs, Final Estimates 1994-97,” USDA/NASS, December 1998.

Also in 1997, there were 13,458 farms that sold layers, pullets, and pullet chicks, and 23,937 farms that sold broilers and other meat-type chickens.⁴ Regarding the latter, a farm would need to produce about 275,000 broilers a year in order to reach annual sales of at least $500,000, according to Census of Agriculture and other National Agricultural Statistics Service (NASS) data.⁵ By this measure, about one-half of broiler farms can be considered small.⁶

⁴ 1997 Census of Agriculture.

⁵ In 1997, the average liveweight equivalent price of broilers was $0.377 per pound, and the average weight was 4,835 pounds. Thus, the average price received per broiler was $1.82.

⁶ The 1997 Census of Agriculture indicates that 52 percent of broiler-producing farms sold at least 200,000 broilers.

Clearly, some of the poultry and egg-producing farms that may be affected by this rule are small. However, the procedural and administrative changes in this rule are not expected to have a significant economic impact on any entities, either large or small.

Under these circumstances, the Administrator of the Animal and Plant Health Inspection Service has determined that this action would not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This final rule has been reviewed under Executive Order 12988, Civil Justice Reform. This rule: (1) Preempts all State and local laws and regulations that are in conflict with this rule; (2) has no retroactive effect; and (3) does not require administrative proceedings before parties may file suit in court challenging this rule.

Paperwork Reduction Act

This final rule contains no new information collection or recordkeeping requirements under the Paperwork Reduction Act of 1995 (44 U.S.C. 3501 et seq.).

List of Subjects in 9 CFR Parts 145 and 147

Animal diseases, Poultry and poultry products, Reporting and recordkeeping requirements.

Accordingly, we are amending 9 CFR parts 145 and 147 as follows:

PART 145—NATIONAL POULTRY IMPROVEMENT PLAN

1. The authority citation for part 145 continues to read as follows:

Authority: 7 U.S.C. 429; 7 CFR 2.22, 2.80, and 371.4.

2. In § 145.1, a definition of public exhibition is added, in alphabetical order, to read as follows:

§ 145.1 Definitions.

* * * * *

Public exhibition. A public show of poultry.

* * * * *

3. In § 145.2, a new paragraph (e) is added to read as follows:

§ 145.2 Administration.

* * * * *

(e) An authorized laboratory of the National Poultry Improvement Plan will follow the laboratory protocols outlined in part 147 of this chapter when determining the status of a participating flock with respect to an official Plan classification.

* * * * *

4. Section 145.6 is amended as follows:

a. By revising paragraph (a).

b. In paragraph (b), by removing the word “which” and adding the word “that” in its place.

c. In paragraph (c), by removing the word “shall” and adding the word “should” in its place.

d. In paragraph (d), in both the first and second sentences, by removing the word “shall” and adding the word “should” in its place.

§ 145.6 Specific provisions for participating hatcheries.

(a) Hatcheries must be kept in sanitary condition, acceptable to the Official State Agency. The procedures outlined in §§ 147.22 through 147.25 of this chapter will be considered as a guide in determining compliance with this provision. The minimum requirements with respect to sanitation include the following:

(1) Egg room walls, ceilings, floors, air filters, drains, and humidifiers should be cleaned and disinfected at least two times per week. Cleaning and disinfection procedures should be as outlined in § 147.24 of this chapter.

(2) Incubator room walls, ceilings, floors, doors, fan grills, vents, and ducts should be cleaned and disinfected after each set or transfer. Incubator rooms should not be used for storage. Plenums should be cleaned at least weekly. Egg trays and buggies should be cleaned and disinfected after each transfer. Cleaning and disinfection procedures should be as outlined in § 147.24 of this chapter.

(3) Hatcher walls, ceilings, floors, doors, fans, vents, and ducts should be cleaned and disinfected after each hatch. Hatcher rooms should be cleaned and disinfected after each hatch and should not be used for storage. Plenums should be cleaned after each hatch. Cleaning and disinfection procedures should be as outlined in § 147.24 of this chapter.

(4) Chick/poult processing equipment and rooms should be thoroughly cleaned and disinfected after each hatch. Chick/poult boxes should be cleaned and disinfected before being reused. Vaccination equipment should be cleaned and disinfected after each use. Cleaning and disinfection procedures should be as outlined in § 147.24 of this chapter.

(5) Hatchery residue, such as chick/poult down, eggshells, infertile eggs, and dead germs, should be disposed of promptly and in a manner satisfactory to the Official State Agency.

(6) The entire hatchery should be kept in a neat, orderly condition and cleaned and disinfected after each hatch.

(7) Effective insect and rodent control programs should be implemented.

* * * * *

§ 145.10 [Amended]

5. In § 145.10, paragraphs (a) and (l) are removed and reserved and paragraph (m) is amended by adding the words “§ 145.23(d) and” immediately after the word “See”.

§ 145.13 [Amended]

6. In § 145.13, the introductory text of the section is amended as follows:

a. In the first sentence, by adding the words “in writing” immediately after the words “are notified”.

b. In the sixth sentence, by removing the words “§§ 50.21 through 50.28-14 and §§ 50.30 through 50.33 of”.

c. In the seventh sentence, by removing the citation “7 CFR 50.2(e), (g), (h), and (l)” and adding the citation “7 CFR 50.10” in its place.

7. Section 145.14 is amended as follows:

a. In the introductory text of the section, by revising the first sentence.

b. In paragraph (a)(1), footnote 1, by removing the words “Veterinary Biologics, 4700 River Road, Unit 148, Riverdale, Maryland 20737-1237” and adding the words “Center for Veterinary Biologics, 510 South 17th Street, Suite 104, Ames, IA 50010-8197” in their place.

§ 145.14 Blood testing.

Poultry must be more than 4 months of age when blood tested for an official classification: Provided, That turkey candidates under subpart D of this part may be blood tested at more than 12 weeks of age; game bird candidates under subpart E of this part may be blood tested when more than 4 months of age or upon reaching sexual maturity, whichever comes first; and ostrich, emu, rhea, and cassowary candidates under subpart F of this part may be blood tested when more than 12 months of age. * * *

* * * * *

8. In § 145.23, paragraph (d) is amended as follows:

a. In paragraph (d), by revising the introductory text.

b. In paragraph (d)(1)(i), by removing the word “Monitored” and adding the word “Clean” in its place.

c. By revising paragraphs (d)(1)(iv) and (d)(1)(vi).

§ 145.23 Terminology and classification; flocks and products.

* * * * *

(d) U.S. S. Enteritidis Clean. This classification is intended for egg-type breeders wishing to assure their customers that the hatching eggs and chicks produced are certified free of Salmonella enteritidis.

(1) * * *

* * * * *

(iv) The flock is maintained in compliance with §§ 147.21, 147.24(a), and 147.26 of this chapter. Rodents and other pests should be effectively controlled;

* * * * *

(vi) If a Salmonella vaccine is used that causes positive reactions with pullorum-typhoid antigen, one of the following options must be utilized:

(A) Administer the vaccine after the pullorum-typhoid testing is done as described in paragraph (d)(1)(vii) of this section.

(B) If an injectable bacterin or live vaccine that does not spread is used, keep a sample of 350 birds unvaccinated and banded for identification until the flock reaches at least 4 months of age. Following negative serological and bacteriological examinations as described in paragraph (d)(1)(vii) of this section, vaccinate the banded, non-vaccinated birds.

* * * * *

§ 145.24 [Amended]

9. In § 145.24, paragraph (a)(2), at the end of the last sentence, the words “in accordance with rules of practice adopted by the Administrator” are added immediately after the word “hearing”.

10. Section 145.33 is amended as follows:

a. By revising paragraph (c)(2).

b. In paragraph (h), the introductory text, by removing the word “primary”.

c. By revising paragraph (h)(1)(i).

d. In paragraph (h)(1)(iv), by adding the words “or under the supervision of” immediately after the word “by”.

e. By revising paragraph (h)(1)(vi).

f. In paragraph (h)(3), the first sentence, by removing the word “in” immediately before the words “paragraph (h)(1)(iv)” and by adding the words “and/or 500 cloacal swabs collected in accordance with § 147.12(a)(2) of this chapter” immediately before the word “must”.

§ 145.33 Terminology and classification; flocks and products.

* * * * *

(c) * * *

(2) A participant handling U.S. M. Gallisepticum Clean products must keep these products separate from other products through the use of separate hatchers and incubators, separate hatch days, and proper hatchery sanitation and biosecurity (see §§ 147.22, 147.23, and 147.24) in a manner satisfactory to the Official State Agency: Provided, That U.S. M. Gallisepticum Clean chicks from primary breeding flocks must be produced in incubators and hatchers in which only eggs from flocks qualified under paragraph (c)(1)(i) of this section are set.

* * * * *

(h) * * *

(1) * * *

(i) The flock originated from a U.S. S. Enteritidis Clean flock, or one of the following samples has been examined bacteriologically for S. enteritidis at an authorized laboratory and any group D Salmonella samples have been serotyped:

(A) A 25-gram sample of meconium from the chicks in the flock collected and cultured as described in § 147.12(a)(5) of this chapter; or

(B) A sample of chick papers collected and cultured as described in § 147.12(c) of this chapter; or

(C) A sample of 10 chicks that died within 7 days after hatching.

* * * * *

(vi) Hatching eggs produced by the flock are collected as quickly as possible and are handled as described in § 147.22 of this chapter.

§ 145.34 [Amended]

11. In § 145.34, paragraphs (a)(2) and (b)(2) are each amended by adding the words “in accordance with rules of practice adopted by the Administrator” immediately after the word “hearing”.

§ 145.44 [Amended]

12. In § 145.44, paragraphs (a)(2), (b)(2), and (c)(2) are each amended by adding the words “in accordance with rules of practice adopted by the Administrator” immediately after the word “hearing”.

§ 145.53 [Amended]

13. In § 145.53, paragraph (a) is removed and reserved.

§ 145.54 [Amended]

14. In § 145.54, paragraph (a)(2) is amended by adding the words “in accordance with rules of practice adopted by the Administrator” immediately after the word “hearing”.

PART 147—AUXILIARY PROVISIONS ON NATIONAL POULTRY IMPROVEMENT PLAN

15. The authority citation for part 147 continues to read as follows:

Authority: 7 U.S.C. 429; 7 CFR 2.22, 2.80, and 371.4.

§ 147.5 [Amended]

16. Section 147.5 is amended as follows:

a. In paragraph (c), by removing the numbers “1:20” and adding the numbers “1:40” in their place.

b. In paragraph (d), the introductory text, by removing the numbers “1:20” and adding the numbers “1:40” in their place.

c. In paragraph (d)(2), by removing the words “10 microliters (0.01 cc.)” and adding the words “5 microliters (0.005 cc.)” in their place.

§ 147.7 [Amended]

17. In § 147.7, paragraph (e)(2)(ii)(B) is amended by removing the third and fourth sentences.

18. In § 147.11, paragraph (a) is revised to read as follows:

§ 147.11 Laboratory procedure recommended for the bacteriological examination of salmonella.

(a) For egg- and meat-type chickens, waterfowl, exhibition poultry, and game birds. All reactors to the Pullorum-Typhoid tests, up to 25 birds, and birds from Salmonella enteritidis (SE) positive environments should be cultured in accordance with both the direct (paragraph (a)(1)) and selective enrichment (paragraph (a)(2)) procedures described in this section. Careful aseptic technique should be used when collecting all tissue samples.

(1) Direct culture (refer to illustration 1). Grossly normal or diseased liver, heart, pericardial sac, spleen, lung, kidney, peritoneum, gallbladder, oviduct, misshapen ova or testes, inflamed or unabsorbed yolk sac, and other visibly pathological tissues where purulent, necrotic, or proliferative lesions are seen (including cysts, abscesses, hypopyon, and inflamed serosal surfaces) should be sampled for direct culture using either flamed wire loops or sterile swabs. Since some strains may not dependably survive and grow in certain selective media, inoculate non-selective plates (such as blood or nutrient agar) and selective plates (such as MacConkey [MAC] and brilliant green novobiocin [BGN] for pullorum-typhoid and MAC, BGN, and xylose-lysine-tergitol 4 [XLT 4] for SE). After inoculating the plates, pool the swabs from the various organs into a tube of non-selective broth (such as nutrient or brain-heart infusion). Refer to illustration 1 for recommended bacteriological recovery and identification procedures.⁷ Proceed immediately with collection of organs and tissues for selective enrichment culture.

⁷ Biochemical identification charts may be obtained from “A Laboratory Manual for the Isolation and Identification of Avian Pathogens,” chapter 2, Salmonellosis. Fourth edition, 1998, American Association of Avian Pathologists, Inc., Kennett Square, PA 19348.

(2) Selective enrichment culture (refer to illustration 1). Collect and culture organ samples separately from intestinal samples, with intestinal tissues collected last to prevent cross-contamination. Samples from the following organs or sites should be collected for culture in selective enrichment broth:

(i) Heart (apex, pericardial sac, and contents if present);

(ii) Liver (portions exhibiting lesions or, in grossly normal organs, the drained gallbladder and adjacent liver tissues);

(iii) Ovary-Testes (entire inactive ovary or testes, but if ovary is active, include any atypical ova);

(iv) Oviduct (if active, include any debris and dehydrated ova);

(v) Kidneys and spleen; and

(vi) Other visibly pathological sites where purulent, necrotic, or proliferative lesions are seen.

(3) From each bird, aseptically collect 10 to 15 grams of each organ or site listed in paragraph (a)(2) of this section. Mince, grind, or blend and place in a sterile plastic bag. All the organs or sites listed in paragraph (a)(2) of this section from the same bird may be pooled into one bag. Do not pool samples from more than one bird. Add sufficient tetrathionate enrichment broth to give a 1:10 (sample to enrichment) ratio. Follow the procedure outlined in illustration 1 for the isolation and identification of Salmonella.

(4) From each bird, aseptically collect 10 to 15 grams of each of the following parts of the digestive tract: Crop wall, duodenum, jejunum (including remnant of yolk sac), both ceca, cecal tonsils, and rectum-cloaca. Mince, grind, or blend tissues and pool them into a sterile plastic bag. Do not pool tissues from different birds into the same sample. Add sufficient tetrathionate enrichment broth to give a 1:10 (sample to enrichment) ratio. Follow the procedure outlined in illustration 1 for the isolation and identification of Salmonella.

(5) After selective enrichment, inoculate selective plates (such as MAC and BGN for pullorum-typhoid and MAC, BGN, and XLT 4) for SE. Inoculate three to five Salmonella-suspect colonies from plates into triple sugar iron (TSI) and lysine iron agar (LIA) slants. Screen colonies by serological (i.e., serogroup) and biochemical procedures (e.g., the Analytical Profile Index for Enterobacteriaceae [API]) as shown in illustration 1. As a supplement to screening three to five Salmonella-suspect colonies on TSI and LIA slants, a group D colony lift assay may be utilized to signal the presence of hard-to-detect group D Salmonella colonies on agar plates.

(6) If the initial selective enrichment is negative for Salmonella, a delayed secondary enrichment (DSE) procedure is used. Leave the tetrathionate-enriched sample at room temperature for 5 to 7 days. Transfer 1 mL of the culture into 10 mL of fresh tetrathionate enrichment broth, incubate at 37 C for 20 to 24 hours, and plate as before.

(7) Serogroup all isolates identified as salmonellae and serotype all serogroup D1 isolates. Phage-type all SE isolates.

BILLING CODE 3410-34-U

BILLING CODE 3410-34-C

* * * * *

19. Section 147.12 is amended as follows:

a. By revising the section heading.

b. In paragraph (a), the introductory text, by removing the word “shall” and adding the word “should” in its place.

c. In paragraph (a)(1)(i), by removing the words “(Hajna or Mueller-Kauffmann Tetrathionate Brilliant Green)”.

d. In paragraph (a)(3), the introductory text, by adding the words “(or commercially available sponges designed for this purpose)” immediately before the words “, a key component”.

e. In paragraph (a)(3)(ii), by removing the words “paragraph (a)(1)” and adding the words “paragraph (a)(3)(i)” in their place.

f. In paragraph (a)(3)(iv), by revising the first two sentences.

g. By adding new paragraphs (a)(4) and (a)(5).

h. By removing paragraph (c), redesignating paragraph (b) as paragraph (c), and adding a new paragraph (b).

i. In the introductory text of newly redesignated paragraph (c)(1), by removing the citation “(b)(1)(i) or (b)(1)(ii)” and adding the citation “(c)(1)(i) or (c)(1)(ii)” in its place.

j. In the introductory text of newly redesignated paragraph (c)(2), by removing the citation “(b)(2)(i)” and adding the citation “(c)(2)(i)” in its place.

§ 147.12 Procedures for collection, isolation, and identification of Salmonella from environmental samples, cloacal swabs, chick box papers, and meconium samples.

* * * * *

(a) * * *

(3) * * *

(iv) Nest box or egg belt sampling technique. Collect nest box or egg belt samples by using two 3-by-3 inch sterile gauze pads premoistened with double-strength skim milk and wiping the pads over assorted locations in about 10 percent of the total nesting area or the egg belt. * * *

* * * * *

(4) Chick box papers. Samples from chick box papers may be bacteriologically examined for the presence of Salmonella. The Plan participant may collect the samples in accordance with paragraph (a)(4)(i) of this section or submit chick box papers directly to a laboratory in accordance with paragraph (a)(4)(ii) of this section. It is important that the paper be removed from the chick box before the box is placed in the brooding house.

(i) Instructions for collecting samples from chick box papers:

(A) Collect 1 chick box paper for each 10 boxes of chicks placed in a house and lay the papers on a clean surface.

(B) Clean your hands and put on latex gloves. Do not apply disinfectant to the gloves. Change gloves after collecting samples from 10 chick box papers or any time a glove is torn.

(C) Saturate a sterile 3-by-3 inch gauze pad with double-strength skim milk (see footnote 12 to this section) and rub the pad across the surface of five chick box papers. Rub the pad over at least 75 percent of each paper and use sufficient pressure to rub any dry meconium off the paper. Pouring a small amount of double-strength skim milk (1 to 2 tablespoons) on each paper will make it easier to collect samples.

(D) After collecting samples from 10 chick box papers, place the two gauze pads used to collect the samples (i.e., one pad per 5 chick box papers) into an 18 oz. Whirl-Pak bag and add 1 to 2 tablespoons of double-strength skim milk.

(E) Promptly refrigerate the Whirl-Pak bags containing the samples and transport them, on ice or otherwise refrigerated, to a laboratory within 48 hours of collection. The samples may be frozen for longer storage if the Plan participant is unable to transport them to a laboratory within 48 hours.

(ii) The Plan participant may send chick box papers directly to a laboratory, where samples may be collected as described in paragraph (a)(4)(i) of this section. To send chick box papers directly to a laboratory:

(A) Collect 1 chick box paper for each 10 boxes of chicks placed in a house and place the chick papers immediately into large plastic bags and seal the bags.

(B) Place the plastic bags containing the chick box papers in a clean box and transport them within 48 hours to a laboratory. The plastic bags do not require refrigeration.

(iii) The laboratory must follow the procedure set forth in paragraph (a)(5) of this section for testing chick meconium for Salmonella.

(5) Chick meconium testing procedure for Salmonella.

(i) Record the date, source, and flock destination on the “Meconium Worksheet.”

(ii) Shake each plastic bag of meconium until a uniform consistency is achieved.

(iii) Transfer a 25 gm sample of meconium to a sterile container. Add 225 mL of a preenrichment broth to each sample (this is a 1:10 dilution), mix gently, and incubate at 37 °C for 18-24 hours.

(iv) Enrich the sample with selective enrichment broth for 24 hours at 42 °C.

(v) Streak the enriched sample onto brilliant green novobiocin (BGN) agar and xylose-lysine-tergitol 4 (XLT4) agar.

(vi) Incubate both plates at 37 °C for 24 hours and process suspect Salmonella colonies according to paragraph (b) of this section.

(b) Isolation and identification of Salmonella. Either of the two enrichment procedures in this paragraph may be used.

(1) Tetrathionate enrichment with delayed secondary enrichment (DSE):

(i) Add tetrathionate enrichment broth to the sample to give a 1:10 (sample to enrichment) ratio. Incubate the sample at 37 or 41.5 °C for 20 to 24 hours as shown in illustration 2.

(ii) After selective enrichment, inoculate selective plates (such as BGN and XLT4). Incubate the plates at 37 °C for 20 to 24 hours. Inoculate three to five Salmonella-suspect colonies from the plates into triple sugar iron (TSI) and lysine iron agar (LIA) slants. Incubate the slants at 37 °C for 20 to 24 hours. Screen colonies by serological (i.e., serogroup) and biochemical (e.g., API) procedures as shown in illustration 2. As a supplement to screening three to five Salmonella-suspect colonies on TSI and LIA slants, a group D colony lift assay may be utilized to signal the presence of hard-to-detect group D Salmonella colonies on agar plates.

(iii) If the initial selective enrichment is negative for Salmonella, use a DSE procedure. Leave the original tetrathionate-enriched sample at room temperature for 5 to 7 days. Transfer 1 mL of the culture into 10 mL of fresh tetrathionate enrichment broth, incubate at 37 °C for 20 to 24 hours, and plate as in paragraph (b)(1)(ii) of this section.

(iv) Serogroup all isolates identified as Salmonella and serotype all serogroup D isolates. Phage-type all Salmonella enteritidis isolates.

(2) Pre-enrichment followed by selective enrichment. (See illustration 2.)

BILLING CODE 3410-34-U

BILLING CODE 3410-34-C

* * * * *

§ 147.18 [Removed]

20. Section 147.18 is removed.

21. Section 147.22 is revised to read as follows:

§ 147.22 Hatching egg sanitation.

Hatching eggs should be collected from the nests at frequent intervals and, to aid in the prevention of contamination with disease-causing organisms, the following practices should be observed:

(a) Cleaned and disinfected containers, such as egg flats, should be used in collecting the nest eggs for hatching. Egg handlers should thoroughly wash their hands with soap and water prior to and after egg collection. Clean outer garments should be worn.

(b) Dirty eggs should not be used for hatching purposes and should be collected in a separate container from the nest eggs. Slightly soiled nest eggs may be gently dry cleaned by hand.

(c) Hatching eggs should be stored in a designated egg room under conditions that will minimize egg sweating. The egg room walls, ceiling, floor, door, heater, and humidifier should be cleaned and disinfected after every egg pickup. Cleaning and disinfection procedures should be as outlined in § 147.24.

(d) The egg processing area should be cleaned and disinfected daily.

(e) Effective rodent and insect control programs should be implemented.

(f) The egg processing building or area should be designed, located, and constructed of such materials as to assure that proper egg sanitation procedures can be carried out, and that the building itself can be easily, effectively, and routinely sanitized.

(g) All vehicles used for transporting eggs or chicks/poults should be cleaned and disinfected after use. Cleaning and disinfection procedures should be as outlined in § 147.24.

22. Section 147.23 is revised to read as follows:

§ 147.23 Hatchery sanitation.

An effective program for the prevention and control of Salmonella and other infections should include the following measures:

(a) An effective hatchery sanitation program should be designed and implemented.

(b) The hatchery building should be arranged so that separate rooms are provided for each of the four operations: Egg receiving, incubation and hatching, chick/poult processing, and egg tray and hatching basket washing. Traffic and airflow patterns in the hatchery should be from clean areas to dirty areas (i.e., from egg room to chick/poult processing rooms) and should avoid tracking from dirty areas back into clean areas.

(c) The hatchery rooms, and tables, racks, and other equipment in them should be thoroughly cleaned and disinfected frequently. All hatchery wastes and offal should be burned or otherwise properly disposed of, and the containers used to remove such materials should be cleaned and sanitized after each use.

(d) The hatching compartments of incubators, including the hatching trays, should be thoroughly cleaned and disinfected after each hatch.

(e) Only clean eggs should be used for hatching purposes.

(f) Only new or cleaned and disinfected egg cases should be used for transportation of hatching eggs. Soiled egg case fillers should be destroyed.

(g) Day-old chicks, poults, or other newly hatched poultry should be distributed in clean, new boxes and new chick papers. All crates and vehicles used for transporting birds should be cleaned and disinfected after each use.

23. Section 147.24 is amended as follows:

a. In paragraph (a), the introductory text, by removing the words “, hatchery rooms and delivery trucks”.

b. By revising paragraphs (a)(1) and (a)(3).

c. In paragraph (b), the introductory text, by adding the words “and hatchery rooms” immediately after the word “hatchers”.

d. By revising paragraph (b)(1).

e. In paragraph (b)(3), by removing the word “sanitized” and adding the word “disinfected” in its place.

f. By redesignating paragraph (c) as paragraph (b)(4) and adding a new paragraph (c).

§ 147.24 Cleaning and disinfecting.

* * * * *

(a) * * *

(1) Remove all live “escaped” and dead birds from the building. Blow dust from equipment and other exposed surfaces. Empty the residual feed from the feed system and feed pans and remove it from the building. Disassemble feeding equipment and dump and scrape as needed to remove any and all feed cake and residue. Clean up spilled feed around the tank and clean out the tank. Rinse down and wash out the inside of the feed tank to decontaminate the surfaces and allow to dry.

* * * * *

(3) Wash down the entire inside surfaces of the building and all the installed equipment such as curtains, ventilation ducts and openings, fans, fan housings and shutters, feeding equipment, watering equipment, etc. Use high pressure and high volume water spray (for example 200 pounds per square inch and 10 gallons per minute or more) to soak into and remove the dirt to decontaminate the building. Scrub the walls, floors, and equipment with a hot soapy water solution. Rinse to remove soap.

* * * * *

(b) * * *

(1) Use cleaning agents and sanitizers that are registered by the U.S. Environmental Protection Agency as germicidal, fungicidal, pseudomonocidal, and tuberculocidal. Use manufacturer's recommended dilution. Remove loose organic debris by sweeping, scraping, vacuuming, brushing, or scrubbing, or by hosing surface with high pressure water (for example 200 pounds per square inch and 10 gallons per minute or more). Remove trays and all controls and fans for separate cleaning. Use hot water (minimum water temperature of 140 °F) for cleaning hatching trays and chick separator equipment. Thoroughly wet the ceiling, walls, and floors with a stream of water, then scrub with a hard bristle brush. Use a cleaner/sanitizer that can penetrate protein and fatty deposits. Allow the chemical to cling to treated surfaces at least 10 minutes before rinsing off. Manually scrub any remaining deposits of organic material until they are removed. Rinse until there is no longer any deposit on the walls, particularly near the fan opening, and apply disinfectant. Use a clean and sanitized squeegee to remove excess water, working down from ceilings to walls to floors and being careful not to recontaminate cleaned areas.

* * * * *

(c) The egg and chick/poult delivery truck drivers and helpers should use the following good biosecurity practices while picking up eggs or delivering chicks/poults:

(1) Spray truck tires thoroughly with disinfectant before leaving the main road and entering the farm driveway.

(2) Put on sturdy, disposable plastic boots or clean rubber boots before getting out of the truck cab. Put on a clean smock or coveralls and a hairnet before entering the poultry house.

(3) After loading eggs or unloading chicks/poults, remove the dirty smock/coveralls and place into plastic garbage bag before loading in the truck. Be sure to keep clean coveralls separate from dirty ones.

(4) Reenter the cab of the truck and remove boots before placing feet onto floorboards. Remove hairnet and leave with disposable boots on farm.

(5) Sanitize hands using appropriate hand sanitizer.

(6) Return to the hatchery or go to the next farm and repeat the process.

§ 147.25 [Amended]

24. Section 147.25 is amended by removing the words “as an essential” and adding the words “or rooms as a” in their place.

25. Section 147.26 is amended as follows:

a. By revising paragraph (a).

b. In paragraph (b)(5), by removing the word “Keep” and adding the words “Establish a rodent control program to keep” in its place.

c. By removing paragraph (b)(10) and redesignating paragraphs (b)(11) through (b)(15) as paragraphs (b)(10) through (b)(14), respectively.

§ 147.26 Procedures for establishing isolation and maintaining sanitation and good management practices for the control of Salmonella and Mycoplasma infections.

(a) The following procedures are required for participation under the U.S. Sanitation Monitored, U.S. M. Gallisepticum Clean, U.S. M. Synoviae Clean, U.S. S. Enteritidis Monitored, and U.S. S. Enteritidis Clean classifications:

(1) Allow no visitors except under controlled conditions to minimize the introduction of Salmonella and Mycoplasma. Such conditions must be approved by the Official State Agency and the Service;

(2) Maintain breeder flocks on farms free from market birds and other domesticated fowl. Follow proper isolation procedures as approved by the Official State Agency;

(3) Dispose of all dead birds by locally approved methods.

* * * * *

26. In § 147.43, paragraph (b) is revised to read as follows:

§ 147.43 General Conference Committee.

* * * * *

(b) The regional committee members and their alternates will be elected by the official delegates of their respective regions, and the member-at-large will be elected by all official delegates. There must be at least two nominees for each position, the voting will be by secret ballot, and the results will be recorded. At least one nominee from each region must be from an underrepresented group (minorities, women, or persons with disabilities). The process for soliciting nominations for regional committee members will include, but not be limited to: Advertisements in at least two industry journals, such as the newsletters of the American Association of Avian Pathologists, the National Chicken Council, the United Egg Producers, and the National Turkey Federation; a Federal Register announcement; and special inquiries for nominations from universities or colleges with minority/disability enrollments and faculty members in poultry science or veterinary science.

* * * * *

Done in Washington, DC, this 19th day of February 2002.
W. Ron DeHaven,
Acting Administrator, Animal and Plant Health Inspection Service.

[FR Doc. 02-4264 Filed 2-22-02; 8:45 am]

BILLING CODE 3410-34-U